DEPARTMENT OF TRANSPORTATION

Pipeline and Hazardous Materials Safety Administration

[Docket No. PHMSA-04-19091; Grant 2]

Pipeline Safety: Petition for Waiver; Tuscarora Gas Transmission Company

AGENCY: Pipeline and Hazardous Materials Safety Administration (PHMSA), DOT.

ACTION: Grant; petition for waiver.

SUMMARY: Tuscarora Gas Transmission Company (Tuscarora) requests a waiver of the pipeline safety regulation on valve spacing from PHMSA. The pipeline safety regulation requires each point on a pipeline in a Class 1 location be within 10 miles of a block valve. This document grants Tuscarora's request for waiver.

SUPPLEMENTARY INFORMATION:

Background

The pipeline safety regulation at 49 CFR 192.179(a)(4) requires each point on a pipeline in a Class 1 location be within 10 miles of a block valve, the maximum not to exceed 20 miles. PHMSA, however, reserves the right to approve an alternative spacing, which will provide an equivalent level of safety.

During a review of its records, Tuscarora discovered that the upstream portions of its pipeline in Lassen County, CA, were slightly re-routed during construction to avoid a sensitive environmental habitat. As a result, the valve spacing between main line valve (MLV) 8 and MLV-9 exceeds the PHMSA mandated maximum valve space of 20 miles by 1,065 feet. Due to this excessive valve space, Tuscarora requests a waiver of the valve spacing requirement for this section of line.

As part of its review, PHMSA has taken the following information into consideration in regards to Tuscarora's waiver request:

• The pipeline was re-routed during construction to avoid a sensitive environmental habitat;

• All mainline block valves on the Tuscarora system are equipped with automatic line break detection and automatic closure devices;

• An existing dirt roadway provides ease of access to the affected valve location; and

• The pipeline segment from MLV-8 to MLV-10 is designed, operated, and maintained to Class 1 requirements in accordance with 49 CFR part 192.

On October 26, 2004, PHMSA published a notice in the Federal Register requesting public comment on Tuscarora's waiver request (69 FR 62516). No comments were received.

Grant of Waiver

Based on the information above, PHMSA finds that a waiver from the requirement of § 192.179(a)(4) is not inconsistent with pipeline safety and does provide an equivalent level of safety to that required by the regulation. Specifically, Tuscarora's entire mainline block valves are equipped with automatic line break detection and automatic closure devices. Therefore, Tuscarora's request for waiver from the regulatory requirements of § 192.179(a)(4) is granted between MLV-8 and MLV-9.

Authority: 49 U.S.C. 60118(c) and 49 CFR 1.53.

Issued in Washington, DC, on July 6, 2006.
Joy Kadnar,
Director-Engineering Services, Security, and Emergency Response.

[FR Doc. E6-11011 Filed 7-12-06; 8:45 am]

BILLING CODE 4910-60-P